COMMISSION ON CIVIL RIGHTS

Notice of Public Meeting of the Nebraska Advisory Committee To Discuss Findings and Recommendations Resulting From Its Inquiry Into the Civil Rights Impact of Nebraska's 2009 Legislative Bill 403

AGENCY: U.S. Commission on Civil Rights.

ACTION: Announcement of meeting.

SUMMARY: Notice is hereby given, pursuant to the provisions of the rules and regulations of the U.S. Commission on Civil Rights (Commission) and the Federal Advisory Committee Act that the Nebraska Advisory Committee (Committee) will hold a meeting on Thursday, October 29, 2015, at 2:00 p.m. CDT for the purpose of discussing and findings and recommendations related to its inquiry regarding the civil rights impact of Nebraska's 2009 Legislative Bill 403. The Committee will also begin discussion of civil rights topics for future consideration.

Members of the public may listen to the discussion. This meeting is available to the public through the following toll-free call-in number: 888-430-8709, conference ID: 908320. Any interested member of the public may call this number and listen to the meeting. The conference call operator will ask callers to identify themselves, the organization they are affiliated with (if any), and an email address prior to placing callers into the conference room. Callers can expect to incur regular charges for calls they initiate over wireless lines according to their wireless plan, and the Commission will not refund any incurred charges. Callers will incur no charge for calls they initiate over land-line connections to the toll-free telephone number. Persons with hearing impairments may also follow the proceedings by first calling the Federal Relay Service at 1-800-977-8339 and providing the Service with the conference call number and conference ID number.

Members of the public are also invited and welcomed to make statements at the end of the conference call. In addition, members of the public may submit written comments; the comments must be received in the regional office by November 30, 2015. Written comments may be mailed to the Regional Programs Unit, U.S. Commission on Civil Rights, 55 W. Monroe St., Suite 410, Chicago, IL 60615. They may also be faxed to the Commission at (312) 353-8324, or emailed to Administrative Assistant, Corrine Sanders at csanders@usccr.gov. Persons who desire additional information may contact the Regional Programs Unit at (312) 353-8311.

Records and documents discussed during the meeting will be available for public viewing prior to and after the meeting at: https://database.faca.gov/committee/meetings.aspx?cid=260 and clicking on the “Meeting Details” and “Documents” links. Records generated from this meeting may also be inspected and reproduced at the Regional Programs Unit, as they become available, both before and after the meeting. Persons interested in the work of this Committee are directed to the Commission's Web site, http://www.usccr.gov, or may contact the Regional Programs Unit at the above email or street address.

Agenda

Welcome and Introductions

Discussion of findings and recommendations regarding NE 2990 LB403

Discussion and consideration of future civil rights topics

Open Comment

Adjournment

DATES: The meeting will be held on Thursday, October 29, 2015, at 2:00 p.m. CDT.

Public Call Information

Dial: 888-430-8709

Conference ID: 908320

FOR FURTHER INFORMATION CONTACT: Melissa Wojnaroski, DFO, at 312-353-8311 or mwojnaroski@usccr.gov.

Dated: October 6, 2015.
David Mussatt,
Chief, Regional Programs Unit.

[FR Doc. 2015-25890 Filed 10-9-15; 8:45 am]

BILLING CODE 6335-01-P